DEPARTMENT OF HEALTH AND HUMAN SERVICES

[Document Identifier: OS-4040-0001]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before September 8, 2025.

ADDRESSES: Submit your comments to sagal.musa@hhs.gov or by calling 202-578-5441.

FOR FURTHER INFORMATION CONTACT: When submitting comments or requesting information, please include the document identifier 4040-0001-60D and project title for reference, to Sagal Musa, email: sagal.musa@hhs.gov or call 202-578-5441, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application for Federal Assistance SF 424 R&R forms.

Type of Collection: Extension.

OMB No.: 4040-0001.

Abstract: The SF-424 R&R family of forms provides the Federal grant-making agencies an alternative to the Standard Form 424 data set and form. Agencies may use the SF-424 R&R forms for grant programs not required to collect all the data that is required on the SF-424 core data set and form. This 4040-0001 collection encompasses 18 forms.

Type of Respondent: The SF-424 R&R family of forms are used by organizations to apply for Federal financial assistance in the form of grants. These forms are submitted to the Federal grant-making agencies for evaluation and review. This IC expires on November 30, 2025. Grants.gov seeks a three-year clearance of these collections.

Annualized Burden Hour Table
Forms (if necessary) | Respondents (if necessary) | Number of respondents | Number of responses per respondents | Average burden per response | Total burden hours
SF-424 R&R Multi-Project Cover | Grant Applicants | 4,614 | 1 | 1 | 4,614
SF424 (R&R) | Grant Applicants | 165,183 | 1 | 1 | 165,183
SBIR/STTR Information | Grant Applicants | 17,183 | 1 | 1 | 17,183
RR FedNonFed Budget | Grant Applicants | 3,456 | 1 | 1 | 3,456
Research and Related Senior/Key Person Profile (Expanded | Grant Applicants | 160,337 | 1 | 1 | 160,337
Research And Related Other Project Information | Grant Applicants | 150,662 | 1 | 1 | 150,662
Research & Related Budget | Grant Applicants | 104,432 | 1 | 1 | 104,432
Research & Related Subaward Budget (Total Fed + Non-Fed) Attachment(s) Form | Grant Applicants | 827 | 1 | 1 | 827
Research & Related Subaward Budget (Total Fed + Non-Fed) 5 YR 30 ATT | Grant Applicants | 303 | 1 | 1 | 303
Research & Related Senior/Key Person Profile | Grant Applicants | 265 | 1 | 1 | 265
Research & Related Personal Data | Grant Applicants | 24,012 | 1 | 1 | 24,012
Research & Related Multi-Project 10 Year Budget | Grant Applicants | 4,606 | 1 | 1 | 4,606
Research & Related Budget 10YR | Grant Applicants | 20,652 | 1 | 1 | 20,652
R&R Subaward Budget Attachment(s) Form 5 YR 30 ATT | Grant Applicants | 37,048 | 1 | 1 | 37,048
R&R Subaward Budget Attachment(s) Form 10 YR 30 ATT | Grant Applicants | 2,707 | 1 | 1 | 2,707
R&R Subaward Budget Attachment(s) Form | Grant Applicants | 3,138 | 1 | 1 | 3,138
R&R R Multi-Project Subaward Budget Attachment(s) Form 10 YR 30 ATT | Grant Applicants | 4,606 | 1 | 1 | 4,606
Total |  | 704,377 | 1 | 1 | 704,377

Catherine Howard,
Paperwork Reduction Act Reports Clearance Officer, Department of Health and Human Services, Office of the Secretary.

[FR Doc. 2025-12799 Filed 7-9-25; 8:45 am]

BILLING CODE 4151-AE-P